DEPARTMENT OF COMMERCE

Foreign-Trade Zones Board

[Order No. 1412]

Expansion of Foreign-Trade Zone 247, Erie, Pennsylvania

Pursuant to its authority under the Foreign-Trade Zones Act of June 18, 1934, as amended (19 U.S.C. 81a-81u), the Foreign-Trade Zones Board (the Board) adopts the following Order:

Whereas, the Erie-Western Pennsylvania Port Authority, grantee of Foreign-Trade Zone 247, submitted an application to the Board for authority to expand FTZ 247 to include a site (Site 4 - 34 acres) at the Venango Regional Airport Industrial Park in the City of Franklin (Venango County), Pennsylvania, adjacent to the Erie Customs port of entry (FTZ Docket 13-2005; filed 3/11/05);

Whereas, notice inviting public comment was given in the Federal Register (70 FR 13450, 3/21/05) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 247 is approved, subject to the Act and the Board's regulations, including Section 400.28.

Signed at Washington, DC, this 9th day of September 2005.

Joseph A. Spetrini,
Acting Assistant Secretary of Commerce for Import Administration, Alternate Chairman, Foreign-Trade Zones Board.
Attest:
Dennis Puccinelli,
Executive Secretary.

[FR Doc. 05-18718 Filed 9-19-05; 8:45 am]

BILLING CODE 3510-DS-S